DEPARTMENT OF COMMERCE

National Telecommunications and Information Administration

Multistakeholder Process To Develop Consumer Data Privacy Code of Conduct Concerning Mobile Application Transparency

AGENCY: National Telecommunications and Information Administration, U.S. Department of Commerce.

ACTION: Notice of open meeting.

SUMMARY: The National Telecommunications and Information Administration (NTIA) will convene the first meeting of a privacy multistakeholder process concerning mobile application transparency on July 12, 2012.

DATES: The meeting will be held on July 12, 2012, from 9:30 a.m. to 4:30 p.m., Eastern Daylight Time.

ADDRESSES: The meeting will be held in the Auditorium of the U.S. Department of Commerce, Herbert C. Hoover Building, 14th Street and Constitution Avenue NW., Washington, DC.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002.

SUPPLEMENTARY INFORMATION: Background: On February 23, 2012, the White House released Consumer Data Privacy in a Networked World: A Framework for Protecting Privacy and Promoting Innovation in the Global Digital Economy (the “Privacy Blueprint”).¹ The Privacy Blueprint directs NTIA to convene multistakeholder processes to develop legally enforceable codes of conduct that specify how the Consumer Privacy Bill of Rights applies in specific business contexts.² On June 15, 2012, NTIA announced that the goal of the first multistakeholder process is to develop a code of conduct to provide transparency in how companies providing applications and interactive services for mobile devices handle personal data.³

¹ The Privacy Blueprint is available at http://www.whitehouse.gov/sites/default/files/privacy-final.pdf.

² Id.

³ NTIA, First Privacy Multistakeholder Meeting: July 12, 2012, http://www.ntia.doc.gov/other-publication/2012/first-privacy-multistakeholder-meeting-july-12-2012.

Matters to Be Considered: The July 12, 2012, meeting will be the first in a series of NTIA-convened multistakeholder discussions concerning mobile application transparency. Stakeholders will engage in an open, transparent, consensus-driven process to develop a code of conduct regarding mobile application transparency. The objectives of the July 12, 2012, meeting are to: (1) Promote discussion among stakeholders concerning mobile app transparency by employing a structured, open process; and (2) provide a venue for stakeholders to agree on the schedule and format of future meetings.

Time and Date: NTIA will convene the first meeting of the privacy multistakeholder process on July 12, 2012, from 9:30 a.m. to 4:30 p.m., Eastern Daylight Time.

Place: The meeting will be held in the Auditorium of the U.S. Department of Commerce, Herbert C. Hoover Building, 14th Street and Constitution Avenue NW., Washington, DC.

Other Information: The meeting is open to the public and the press. Attendees should arrive at least one-half hour prior to the start of the meeting. Due to security requirements and to facilitate entry to the Department of Commerce building, U.S. nationals must present a valid, government-issued photo identification upon arrival. Foreign nationals must contact John Verdi at (202) 482-8238 or jverdi@ntia.doc.gov at least five (5) business days prior to the meeting in order to provide the necessary clearance information, and must present a valid, government-issued photo identification upon arrival. This meeting is physically accessible to people with disabilities. Requests for sign language interpretation or other auxiliary aids should be directed to John Verdi at (202) 482-8238 or jverdi@ntia.doc.gov at least seven (7) business days prior to the meeting. The meeting will also be webcast. There will be an opportunity for stakeholders viewing the webcast to participate remotely in the meeting through an NTIA in-room proxy. Please refer to NTIA's Web site, http://www.ntia.doc.gov/other-publication/2012/july-12-2012-privacy-multistakeholder-meeting-details, for webcast and remote participation information.

Dated: June 22, 2012.
Kathy Smith,
Chief Counsel, National Telecommunications and Information Administration.

[FR Doc. 2012-15767 Filed 6-27-12; 8:45 am]

BILLING CODE 3510-60-P